DEPARTMENT OF HOUSING AND URBAN DEVELOPMENT

[Docket No. FR-5300-FA-33]

Announcement of Funding Awards for Fiscal Year 2009 for the Housing Choice Voucher Program

AGENCY: Office of the Assistant Secretary for Public and Indian Housing, HUD.

ACTION: Announcement of Fiscal Year 2009 awards.

SUMMARY: In accordance with Section 102(a)(4)(C) of the Department of Housing and Urban Development Reform Act of 1989, this document notifies the public of funding awards for Fiscal Year (FY) 2009 to housing agencies (HAs) under the Section 8 housing choice voucher program. The purpose of this notice is to publish the names, addresses, and the amount of the awards to HAs for non-competitive funding awards for housing conversion actions, public housing relocations and replacements, moderate rehabilitation replacements, and HOPE VI voucher awards.

FOR FURTHER INFORMATION CONTACT: Danielle Bastarache, Director, Office of Housing Voucher Programs, Office of Public and Indian Housing, Department of Housing and Urban Development, 451 Seventh Street, SW., Room 4228, Washington, DC 20410-5000, telephone (202) 402-0477. Hearing- or speech-impaired individuals may call HUD's TTY number at (800) 927-7589. (Only the “800” telephone number is toll-free.)

SUPPLEMENTARY INFORMATION: The regulations governing the housing choice voucher program are published at 24 CFR 982. The regulations for allocating housing assistance budget authority under Section 213(d) of the Housing and Community Development Act of 1974 are published at 24 CFR part 791, subpart D.

The purpose of this rental assistance program is to assist eligible families to pay their rent for decent, safe, and sanitary housing. The FY 2009 awardees announced in this notice were provided Section 8 funds on an as-needed, non-competitive basis, i.e., not consistent with the provisions of a Notice of Funding Availability (NOFAs). Tenant protection voucher awards made to PHAs for program actions that displace families living in public housing were made on a first-come, first-served basis in accordance with PIH Notice 2007-10, Voucher Funding in Connection with the Demolition or Disposition of Occupied Public Housing Units. Announcements of awards provided under the NOFA process for Mainstream, Designated Housing, Family Unification (FUP), and Veterans Assistance Supportive Housing (VASH) programs will be published in a separate Federal Register notice.

Awards published under this notice were provided (1) to assist families living in HUD-owned properties that are being sold; (2) to assist families affected by the expiration or termination of their project-based Section 8 and moderate rehabilitation contracts; (3) to assist families in properties where the owner has prepaid the HUD mortgage; (4) to provide relocation housing assistance in connection with the demolition of public housing; (5) to provide replacement housing assistance for single room occupancy (SRO) units that fail housing quality standards (HQS); and (6) to assist families in public housing developments that are scheduled for demolition in connection with a HUD-approved HOPE VI Revitalization or Demolition Grant. Additionally, housing choice vouchers were awarded to PHAs administering assistance to families that resided in certain Office of Multifamily Housing properties at the time of Hurricane Katrina or Rita. Some families were eligible to receive voucher assistance because owners of these properties subsequently decided to prepay the preservation eligible mortgage or the Section 8 project-based contract was terminated or not renewed.

A special housing fee of $200 per occupied unit was provided to PHAs to compensate the PHA for any extraordinary Section 8 administrative costs associated with the Multifamily housing conversion action.

In FY 2008, some PHAs were awarded housing choice vouchers in connection with a public housing demolition/disposition plan and were authorized to use their available net restricted assets (NRA) to offset the required budget authority for units requested, if the PHA had reported a significant accumulation of unspent housing assistance payment funds available. It was later discovered that four of these PHAs misreported their NRA, and consequently, did not have NRA available to fund the units authorized. Therefore, budget authority was provided in FY 2009 to support the vouchers awarded in FY 2008 to the Montgomery (AL006), Los Angeles County (CA004), Omaha (NE001), Las Vegas (NV002), and San Antonio (TX006) Housing Authorities. These PHAs are included in this list with awards of BA with minimal units. No PHAs were authorized to use the NRA to offset awards made in FY 2009.

The Department awarded total new budget authority of $167,165,850 for 21,098 housing choice vouchers to recipients under all of the above-mentioned categories.

In accordance with Section 102(a)(4)(C) of the Department of Housing and Urban Development Reform Act of 1989 (103 Stat. 1987, 42 U.S.C. 3545), the Department is publishing the names, addresses, and amounts of those awards as shown in Appendix A alphabetically by State then by PHA name.

Dated: January 20, 2010.
Sandra B. Henriquez,
Assistant Secretary for Public and Indian Housing.

Section 8 Rental Assistance Programs Announcement of Awards for Fiscal Year 2009
Housing agency | Address | Units | Award
Public Housing Tenant Protection
Mod Rehab Replacements
COUNTY OF LOS ANGELES HA | 2 CORAL CIRCLE, MONTEREY PARK, CA 93907 | 94 | 959,003
OAKLAND HA | 1619 HARRISON ST, OAKLAND, CA 94612 | 6 | 86,724
CITY OF LOS ANGELES HA | 2600 WILSHIRE BLVD, 3RD FL, LOS ANGELES, CA 90057 | 7 | 67,816
TULARE COUNTY HA | 5140 W. CYPRESS AVE, VISALIA, CA 93279 | 1 | 14,454
COUNTY OF MONTEREY HA | 123 RICO STREET, SALINAS, CA 93907 | 28 | 217,063
SAN JOSE HA | 505 WEST JULIAN STREET, SAN JOSE, CA 95110 | 6 | 82,195
SANTA CLARA COUNTY HA | 505 WEST JULIAN ST, SAN JOSE, CA 95110 | 4 | 55,636
ALAMEDA COUNTY HA | 22941 ATHERTON STREET, HAYWARD, CA 94541 | 4 | 49,793
SANTA CRUZ COUNTY HA | 2931 MISSION ST, SANTA CRUZ, CA 95060 | 3 | 32,145
WATERBURY HA | 2 LAKEWOOD ROAD, WATERBURY, CT 06704 | 4 | 27,326
DISTRICT OF COLUMBIA HA | 1133 NORTH CAPITOL STREET NE, WASHINGTON, DC 20002 | 42 | 495,472
MIAMI DADE HA | 1401 NW 7TH STREET, MIAMI, FL 33125 | 26 | 235,922
HA OF ATLANTA | 230 JOHN WESLEY DOBBS AVE, NE, ATLANTA, GA 30303 | 40 | 393,995
CITY OF DES MOINES MUN HSG | 100 EAST EUCLID, STE 101, DES MOINES, IA 50313 | 6 | 27,797
CHICAGO HA | 60 EAST VAN BUREN ST, 11TH FL, CHICAGO, IL 60605 | 7 | 66,459
NEW ORLEANS HA | 4100 TOURO STREET, NEW ORLEANS, LA 70122 | 3 | 32,767
COMM DEV PROG COMM OF MA, EOCD | 100 CAMBRIDGE STREET, BOSTON, MA 02114 | 9 | 94,729
MD DEPT OF HSG & COMM AFFAIRS | 100 COMMUNITY PLACE, CROWNSVILLE, MD 21032 | 24 | 160,736
MAINE STATE HA | 353 WATER STREET, AUGUSTA, ME 04330 | 8 | 50,352
ST. LOUIS HA | 3520 PAGE BOULEVARD, ST. LOUIS, MO 63106 | 26 | 163,532
ST. FRANCOIS COUNTY PHA | P.O. BOX N, PARK HILLS, MO 63601 | 2 | 7,656
MISSISSIPPI REGIONAL HA VI | P.O. DRAWER 8746, JACKSON, MS 39284 | 29 | 155,009
MT DEPARTMENT OF COMMERCE | 301 S. PARK, HELENA, MT 59620 | 12 | 51,022
GLOUCESTER HA | 100 POP MOYLAN BOULEVARD, DEPTFORD, NJ 08096 | 9 | 68,784
ALBUQUERQUE HA | 1840 UNIVERSITY BLVD, SE, ALBUQUERQUE, NM 87106 | 5 | 26,409
ALBANY HA | 200 SOUTH PEARL, ALBANY, NY 12202 | 12 | 63,338
HA OF LOCKPORT | 301 MICHIGAN ST, LOCKPORT, NY 14094 | 5 | 19,393
TOWN OF AMHERST | 1195 MAIN STREET, BUFFALO, NY 14209 | 13 | 57,807
THE CITY OF NEW YORK DHPD | 100 GOLD STREET, ROOM 501, NEW YORK, NY 10007 | 106 | 1,480,914
CITY OF NEW ROCHELLE | 515 NORTH AVENUE, NEW ROCHELLE, NY 10801 | 16 | 165,694
CUYAHOGA MHA | 1441 WEST 25TH STREET, CLEVELAND, OH 44113 | 36 | 233,392
CINCINNATI METRO HA | 16 WEST CENTRAL PARKWAY, CINCINNATI, OH 45210 | 5 | 29,867
HA OF PORTLAND | 135 SW ASH STREET, PORTLAND, OR 97204 | 50 | 351,084
COOS-CURRY HA | 1700 MONROE, NORTH BEND, OR 97459 | 31 | 123,452
HA OF THE CITY OF PITTSBURGH | 200 ROSS STREET, PITTSBURGH, PA 15219 | 3 | 19,492
PHILADELPHIA HA | 12 SOUTH 23RD STREET, PHILADELPHIA, PA 19103 | 40 | 258,186
REDEV AUTH OF CITY OF LANCASTER | 202 NORTH PRINCE ST, STE 400, LANCASTER, PA 17603 | 7 | 39,210
MUNICIPALITY OF VEGA BAJA | PO BOX 4555, VEGA BAJA, PR 00694 | 45 | 239,396
MUNICIPALITY OF VIEQUES | CALLE CARLOS LEBRUN #449, VIEQUES, PR 00765 | 10 | 48,848
HA OF COLUMBIA | 1917 HARDEN STREET, COLUMBIA, SC 29204 | 2 | 11,051
HSG & COM REDEV AUTH | P.O. DRAWER 969, FLORENCE, SC 29503 | 7 | 23,717
SC STATE HSG FINANCE & DEV | 300-C OUTLET POINTE BLVD, COLUMBIA, SC 29210 | 36 | 182,571
SIOUX FALLS HSG & REDEV | 630 SOUTH MINNESOTA, SIOUX FALLS, SD 57104 | 7 | 36,135
HOUSTON HA | 2640 FOUNTAIN VIEW, HOUSTON, TX 77057 | 14 | 102,762
SAN ANTONIO HA | 818 S. FLORES STREET, SAN ANTONIO, TX 78295 | 19 | 130,512
PANHANDLE COMM SERVICES | 1309 W. 8TH ST, AMARILLO, TX 79120 | 21 | 93,301
ROANOKE REDEV & HA | 2624 SALEM TRNPK, NW, ROANOKE, VA 24017 | 4 | 19,199
CITY OF VIRGINIA BEACH | 2424 COURTHOUSE DR, VIRGINIA BEACH, VA 23456 | 10 | 73,176
VERMONT STATE HA | ONE PROSPECT STREET, MONTPELIER, VT 05602 | 46 | 251,839
CHARLESTON/KANAWHA HA | 1525 WASHINGTON ST. WEST, CHARLESTON, WV 25321 | 11 | 52,090
HA OF CITY OF BLUEFIELD | P.O. BOX 1475, BLUEFIELD, WV 24701 | 12 | 40,464
Total for Mod Rehab Replacements |  | 973 | $7,769,686
PH Relocations/Replacements
HA OF CITY OF MONTGOMERY | 1020 BELL ST, MONTGOMERY, AL 36104 | 227 | 1,405,710
HA OF HUNTSVILLE | P.O. BOX 486, HUNTSVILLE, AL 35804 | 138 | 694,708
HA OF TUSCALOOSA | P.O. BOX 2281, TUSCALOOSA, AL 35403 | 120 | 550,915
HA OF BESSEMER | P.O. BOX 1390, BESSEMER, AL 35021 | 60 | 382,364
CITY OF LOS ANGELES HA | 2600 WILSHIRE BLVD, 3RD FL, LOS ANGELES, CA 90057 | 651 | 5,841,656
OAKLAND HA | 1619 HARRISON ST, OAKLAND, CA 94612 | 1,528 | 8,235,248
COUNTY OF SANTA BARBARA HA | 815 W OCEAN, LOMPOC, CA 93438 | 41 | 361,432
CITY OF ALAMEDA HA | 701 ATLANTIC AVENUE, ALAMEDA, CA 94501 | 120 | 1,391,068
ALAMEDA COUNTY HA | 22941 ATHERTON STREET, HAYWARD, CA 94541 | 148 | 1,842,352
LOVELAND HA | 375 W. 37TH ST, STE 200, LOVELAND, CO 80538 | 80 | 538,032
MERIDEN HA | 22 CHURCH STREET, MERIDEN, CT 06450 | 66 | 600,534
HA OF WEST PALM BEACH GEN FUND | 1715 DIVISION AVENUE, WEST PALM BEACH, FL 33407 | 36 | 341,207
HA OF FORT LAUDERDALE CITY | 437 SW 4TH AVENUE, FORT LAUDERDALE, FL 33315 | 21 | 200,461
CITY OF LAKELAND HA | 430 S. HARTSELL AVENUE, LAKELAND, FL 33815 | 133 | 724,538
HA OF PAHOKEE INC | 465 FRIEND TERRACE, PAHOKEE, FL 33476 | 40 | 331,843
HA OF ATLANTA | 230 JOHN WESLEY DOBBS AVE NE, ATLANTA, GA 30303 | 1,555 | 15,493,959
HA OF AUGUSTA | 1435 WALTON WAY, AUGUSTA, GA 30914 | 248 | 1,509,219
HA OF MARIETTA | 95 COLE STREET, MARIETTA, GA 30061 | 207 | 1,717,040
HA OF THE CITY OF DECATOR | 750 COMMERCE DRIVE, STE 110, DECATUR, GA 30030 | 40 | 299,126
HA OF AMERICUS | 825 N MAYO STREET, AMERICUS, GA 31709 | 100 | 422,508
HA OF THE CITY OF EAST POINT | 1600 CONALLY DR, EAST POINT, GA | 92 | 586,025
NORTHWEST GEORGIA HA | 800 NORTH FIFTH AVENUE, ROME, GA 30162 | 136 | 601,688
CHICAGO HA | 60 EAST VAN BUREN ST, 11TH FL, CHICAGO, IL 60605 | 1,121 | 10,739,539
MENARD COUNTY HA | PO BOX 168, PETERSBURG, IL 62675 | 13 | 62,194
CHRISTIAN CTY HA | PO BOX 86, PANA, IL 62557 | 91 | 283,407
LOUISVILLE HA | 420 SOUTH EIGHTH STREET, LOUISVILLE, KY 40203 | 67 | 461,842
FITCHBURG HA | 50 DAY STREET, FITCHBURG, MA 01420 | 22 | 146,731
HA OF THE CITY OF ANNAPOLIS | 1217 MADISON STREET, ANNAPOLIS, MD 21403 | 40 | 428,668
HA OF BALTIMORE CITY | 417 EAST FAYETTE STREET, BALTIMORE, MD 21201 | 827 | 6,773,355
METRO COUNCIL HRA | 390 ROBERT STREET NORTH, ST. PAUL, MN 55101 | 150 | 1,070,046
SCOTT COUNTY CDA | 323 SOUTH NAUMKEAG STREET, SHAKOPEE, MN 55379 | 53 | 433,873
MISSOULA HA | 1235 34TH STREET, MISSOULA, MT 59801 | 20 | 104,955
BURLEIGH COUNTY HA | 410 SOUTH 2ND STREET, BISMARCK, ND 58504 | 18 | 71,362
OMAHA HA | 540 SOUTH 27TH STREET, OMAHA, NE 68105 | 161 | 533,808
NEWARK HA | 57 SUSSEX AVENUE, NEWARK, NJ 07103 | 696 | 6,432,126
ORANGE CITY HA | 340 THOMAS BOULEVARD, ORANGE, NJ 07050 | 140 | 1,230,012
CITY OF LAS VEGAS HA | 420 N. 10TH STREET, LAS VEGAS, NV 89125 | 336 | 2,998,316
COLUMBUS METRO HA | 880 EAST 11TH AVENUE, COLUMBUS, OH 43211 | 693 | 4,211,471
AKRON METRO HA | 100 W. CEDAR STREET, AKRON, OH 44307 | 170 | 967,368
HA OF THE CITY OF SALEM | PO BOX 808, SALEM, OR 97308 | 30 | 146,984
ARMSTRONG COUNTY HA | 350 S. JEFFERSON STREET, KITTANNING, PA 16201 | 17 | 72,030
SHELBY COUNTY HA | 715 ROUGE BLUFF AVE, MEMPHIS, TN 28127 | 100 | 620,076
SAN ANTONIO HA | 818 S. FLORES STREET, SAN ANTONIO, TX 78295 | 240 | 1,714,999
TEXAS CITY HA | 817 SECOND AVENUE NORTH, TEXAS CITY, TX 77590 | 56 | 356,832
PHARR HA | 211 W AUDREY, PHARR, TX 78577 | 100 | 374,604
KINGSVILLE HA | P.O. BOX 847, KINGSVILLE, TX 78363 | 78 | 367,436
RICHMOND REDEV & HA | 901 CHAMBERLAYNE PARKWAY, RICHMOND, VA 23456 | 0 | 17,059
HA OF THE CITY OF | 2500 MAIN STREET, STE 200, VANCOUVER, WA 98660 | 89 | 528,116
CHARLESTON/KANAWHA HA | 1525 WASHINGTON ST. WEST, CHARLESTON, WV 25321 | 50 | 243,936
Total for PH Relocations/Replacements |  | 7,018 | $51,462,247
SRO Relocations/Replacements
SANTA CLARA COUNTY HA | 505 WEST JULIAN ST, SAN JOSE, CA 95110 | 95 | 543,372
HA OF THE CITY OF SALEM | PO BOX 808, SALEM, OR 97308 | 21 | 100,435
RICHMOND REDEV & HA | 901 CHAMBERLAYNE PARKWAY, RICHMOND, VA 23456 | 39 | 269,886
Total for SRO Relocations/Replacements |  | 155 | $913,693
Witness Relocation
COUNTY OF SACRAMENTO HSG | P.O. BOX 1834, SACRAMENTO, CA 95812 | 1 | 19,080
HA OF CITY OF LAKEWOOD | 445 S. ALLISON PARKWAY, LAKEWOOD, CO 80226 | 1 | 14,244
AURORA HA | 10745 E KENTUCKY AVENUE, AURORA, CO 80012 | 2 | 24,924
HA OF MIAMI BEACH | 200 ALTON ROAD, MIAMI BEACH, FL 33139 | 1 | 10,176
MONTGOMERY CO HA | 10400 DETRICK AVENUE, KENSINGTON, MD 20895 | 12 | 211,311
BUCKS COUNTY HA | 350 SOUTH MAIN STREET, STE 205, DOYLESTOWN, PA 18901 | 1 | 13,644
CHESAPEAKE REDEV & HA | 1468 S. MILITARY HWY, CHESAPEAKE, VA 23327 | 1 | 9,888
Total for Witness Relocation |  | 19 | $303,267
Total for Public Housing Tenant Protection |  | 12,312 | $94,449,424
Housing Tenant Protection
Disaster Voucher Program to Tenant-based Voucher Conversions
HA OF THE CITY AND CO OF DENVER | 777 GRANT STREET, DENVER, CO 80203 | 1 | 8,816
HA OF POMPANO BEACH | 321 WEST ATLANTIC BLVD, POMPANO BEACH, FL 33061 | 1 | 11,189
HA OF TALLAHASSEE | 2940 GRADY ROAD, TALLAHASSEE, FL 32312 | 1 | 7,552
HA OF DELRAY BEACH | 600 N CONGRESS, STE 310B, DELRAY BEACH, FL 33445 | 1 | 8,749
HA FULTON COUNTY | 4273 WENDELL DRIVE, SW, ATLANTA, GA 30336 | 2 | 17,872
NEW ORLEANS HA | 4100 TOURO STREET, NEW ORLEANS, LA 70122 | 27 | 294,902
EAST BATON ROUGE PHA | 4731 NORTH BLVD, BATON ROUGE, LA 70806 | 7 | 49,173
LAFAYETTE (CITY) HA | 100 C O CIRCLE, LAFAYETTE, LA 70501 | 1 | 4,196
ASCENSION PARISH SEC 8 HA | 213 EAST BLVD, BATON ROUGE, LA 70802 | 2 | 10,803
KENNER HA | 1013 31ST STREET, KENNER, LA 70065 | 83 | 767,020
JEFFERSON PARISH HA | 1718 BETTY STREET, MARRERO, LA 70072 | 190 | 1,680,702
CONCORDIA PARISH POLICE JURY | 4001 CARTER STREET, ROOM 1, VIDALIA, LA 71373 | 2 | 5,014
ST JOHN THE BAPTIST PARISH HA | 152 JOE PARQUET CIRCLE, LAPLACE, LA 70068 | 2 | 18,406
MISSISSIPPI REGIONAL HA VIII | P.O. BOX 2347, GULFPORT, MS 39505 | 3 | 17,827
JACKSON HOUS AUTH | 2747 LIVINGSTON ROAD, JACKSON, MS 39283 | 1 | 5,858
HA OF WINSTON-SALEM | 500 WEST FOURTH ST, STE 300, WINSTON-SALEM, NC 27101 | 1 | 5,678
HA OF COUNTY OF WAKE | 100 SHANNON STREET, ZEBULON, NC 27597 | 2 | 16,464
AUSTIN HA | P.O. BOX 6159, AUSTIN, TX 78762 | 1 | 8,518
HOUSTON HA | 2640 FOUNTAIN VIEW, HOUSTON, TX 77057 | 19 | 139,463
SAN ANTONIO HA | 818 S. FLORES STREET, SAN ANTONIO, TX 78295 | 7 | 48,314
HA OF DALLAS | 3939 N. HAMPTON RD, DALLAS, TX 75212 | 8 | 63,929
HA OF PLANO | 1740 AVENUE G, PLANO, TX 75074 | 2 | 14,045
GEORGETOWN HA | P.O. BOX 60, GEORGETOWN, TX 78627 | 1 | 7,171
DENTON HA | 1225 WILSON STREET, DENTON, TX 76205 | 3 | 21,054
ARLINGTON HA | 501 W. SANFORD, STE 20, ARLINGTON, TX 76011 | 2 | 12,253
HARRIS COUNTY HA | 8410 LANTERN POINT, HOUSTON, TX 77054 | 20 | 152,955
BRAZORIA COUNTY HA | 1524 E MULBERRY, STE 162, ANGLETON, TX 77515 | 1 | 5,515
DALLAS COUNTY HSG ASSISTANCE | 2377 N. STEMMONS FRWY, STE 600—LB 12, DALLAS, TX 75207 | 3 | 19,338
Total for DVP TO TBV Conversions |  | 394 | $3,422,776
Preservation/Prepayment
WATERBURY HA | 2 LAKEWOOD ROAD, WATERBURY, CT 06704 | 114 | 821,319
MIDDLETOWN HA | 40 BROAD STREET, MIDDLETOWN, CT 06457 | 101 | 709,674
CONN DEPT OF SOCIAL SERVICES | 25 SIGOURNEY STREET, 9TH FL, HARTFORD, CT 06105 | 96 | 843,852
CITY OF DES MOINES MUNC HSG | 100 EAST EUCLID, STE 101, DES MOINES, IA 50313 | 78 | 361,352
CITY OF DAVENPORT, IOWA | 501 WEST 3RD STREET, DAVENPORT, IA 52802 | 41 | 210,704
OLATHE HA | 300 W. CHESTNUT, OLATHE, KS 66061 | 100 | 520,200
KENTUCKY HSG CORPORATION | 1231 LOUISVILLE ROAD, FRANKFORT, KY 40601 | 43 | 199,770
EAST BATON ROUGE PHA | 4731 NORTH BLVD, BATON ROUGE, LA 70806 | 23 | 142,902
NEW BEDFORD HA | P.O. BOX A-2081, NEW BEDFORD, MA 02741 | 71 | 491,723
BROCKTON HA | 45 GODDARD ROAD, BROCKTON, MA 02303 | 118 | 1,162,465
FRAMINGHAM HA | 1 JOHN J. BRADY DRIVE, FRAMINGHAM, MA 01702 | 51 | 523,701
WEYMOUTH HA | 402 ESSEX STREET, WEYMOUTH, MA 02188 | 66 | 638,685
LEOMINSTER HA | 100 MAIN ST, LEOMINSTER, MA 01453 | 7 | 44,847
HA OF BALTIMORE CITY | 417 EAST FAYETTE STREET, BALTIMORE, MD 21201 | 98 | 816,050
MICHIGAN STATE HSG DEV AUTH | P.O. BOX 30044, LANSING, MI 48909 | 69 | 399,759
DAKOTA COUNTY CDA | 1228 TOWN CENTRE DRIVE, EAGAN, MN 55123 | 4 | 26,700
INDEPENDENCE HA | 210 SOUTH PLEASANT, INDEPENDENCE, MO 64050 | 23 | 124,534
ST. CLAIR COUNTY HA | P.O. BOX 125, APPLETON CITY, MO 64724 | 76 | 332,298
BUTTE HA | 220 CURTIS STREET, BUTTE, MT 59701 | 55 | 232,201
NEW HAMPSHIRE HSG FIN AUTH | P.O. BOX 5087, MANCHESTER, NH 03108 | 30 | 235,505
PLAINFIELD HA | 510 FRONT STREET, PLAINFIELD, NJ 07060 | 141 | 1,424,393
HA OF ROME | 205 ST PETER'S AVE, ROME, NY 13440 | 60 | 224,863
HA OF ITHACA | 800 S PLAIN STREET, ITHACA, NY 14850 | 0 | 369,871
THE CITY OF NEW YORK DHPD | 100 GOLD STREET, ROOM 501, NEW YORK, NY 10007 | 726 | 13,189,719
CITY OF PEEKSKILL | 840 MAIN STREET, PEEKSKILL, NY 10566 | 46 | 481,211
VILLAGE OF MANLIUS | 1654 W. ONONDAGA ST, SYRACUSE, NY 13202 | 99 | 433,513
NYS HSG TRUST FUND CORP | 38-40 STATE STREET, ALBANY, NY 12207 | 199 | 2,071,918
LORAIN MHA | 1600 KANSAS AVENUE, LORAIN, OH 44052 | 103 | 612,117
KLAMATH HA | PO BOX 5110, KLAMATH FALLS, OR 97601 | 17 | 69,435
HA OF THE CITY OF PITTSBURGH | 200 ROSS STREET, PITTSBURGH, PA 15219 | 17 | 100,984
LANCASTER HA | 325 CHURCH STREET, LANCASTER, PA 17602 | 115 | 653,927
PAWTUCKET H A | 214 ROOSEVELT AVE, PAWTUCKET, RI 02862 | 40 | 285,062
HA OF AIKEN | P.O. BOX 889, AIKEN, SC 29802 | 60 | 299,419
HA OF SOUTH CAROLINA REG NO 1 | 404 CHURCH ST., LAURENS, SC 29360 | 8 | 37,235
SIOUX FALLS HSG & REDEV | 630 SOUTH MINNESOTA, SIOUX FALLS, SD 57104 | 100 | 516,216
Total for Preservation/Prepayment |  | 2,995 | $29,608,124
Property Disposition Relocation
COUNTY OF BUTTE HA | 2039 FOREST AVENUE, SUITE 10, CHICO, CA 95928 | 8 | 42,504
NEW ORLEANS HA | 4100 TOURO STREET, NEW ORLEANS, LA 70122 | 94 | 993,160
NEW YORK CITY HA | 90 CHURCH STREET, 9TH FL, NEW YORK, NY 10007 | 60 | 554,674
Total for Property Disposition Relocation |  | 162 | $1,590,338
Rent Supplements
LOUISVILLE HA | 420 SOUTH EIGHTH STREET, LOUISVILLE, KY 40203 | 33 | 197,410
NEW BEDFORD HA | P.O. BOX A-2081, NEW BEDFORD, MA 02741 | 73 | 505,575
GREAT FALLS HA | 1500 CHOWEN SPRINGS LOOP, GREAT FALLS, MT 59405 | 8 | 37,714
CITY OF BUFFALO RENT ASST CORP | 470 FRANKLIN ST, BUFFALO, NY 14202 | 205 | 957,555
CITY OF MITCHELL HSG & | 200 E 15TH AVE, MITCHELL, SD 57301 | 4 | 12,058
SIOUX FALLS HSG & REDEV | 630 SOUTH MINNESOTA, SIOUX FALLS, SD 57104 | 13 | 67,108
Total for Rent Supplements |  | 336 | $1,777,420
Special Fees for DVP to TBV Conversions
HA OF THE CITY AND CO OF DENVER | 777 GRANT STREET, DENVER, CO 80203 | 0 | 200
HA OF POMPANO BEACH | 321 WEST ATLANTIC BLVD, POMPANO BEACH, FL 33061 | 0 | 200
HA OF TALLAHASSEE | 2940 GRADY ROAD, TALLAHASSEE, FL 32312 | 0 | 200
HA OF DELRAY BEACH | 600 N CONGRESS, STE 310B, DELRAY BEACH, FL 33445 | 0 | 200
HA OF FULTON COUNTY | 4273 WENDELL DRIVE, SW, ATLANTA, GA 30336 | 0 | 400
NEW ORLEANS HA | 4100 TOURO STREET, NEW ORLEANS, LA 70122 | 0 | 5,400
EAST BATON ROUGE PHA | 4731 NORTH BLVD, BATON ROUGE, LA 70806 | 0 | 1,400
LAFAYETTE CITY HA | 100 C O CIRCLE, LAFAYETTE, LA 70501 | 0 | 200
ASCENSION PARISH SEC 8 HA | 213 EAST BLVD., BATON ROUGE, LA 70802 | 0 | 400
KENNER HA | 1013 31ST STREET, KENNER, LA 70065 | 0 | 16,600
JEFFERSON PARISH HA | 1718 BETTY STREET, MARRERO, LA 70072 | 0 | 38,000
CONCORDIA PARISH POLICE JURY | 4001 CARTER STREET, ROOM 1, VIDALIA, LA 71373 | 0 | 400
ST JOHN THE BAPTIST PARISH HA | 152 JOE PARQUET CIRCLE, LAPLACE, LA 70068 | 0 | 400
UNION PARISH POLICE JURY | P. O. BOX 723, FARMERVILLE, LA 71241 | 0 | 400
MISS REGIONAL HA VIII | P.O. BOX 2347, GULFPORT, MS 39505 | 0 | 600
JACKSON HOUS AUTH | 2747 LIVINGSTON ROAD, JACKSON, MS 39283 | 0 | 200
HA WINSTON-SALEM | 500 WEST FOURTH ST, STE 300, WINSTON-SALEM, NC 27101 | 0 | 200
HA COUNTY OF WAKE | 100 SHANNON STREET, ZEBULON, NC 27597 | 0 | 400
AUSTIN HA | P.O. BOX 6159, AUSTIN, TX 78762 | 0 | 200
HOUSTON HA | 2640 FOUNTAIN VIEW, HOUSTON, TX 77057 | 0 | 3,800
SAN ANTONIO HA | 818 S. FLORES STREET, SAN ANTONIO, TX 78295 | 0 | 1,400
HA OF DALLAS | 3939 N. HAMPTON RD, DALLAS, TX 75212 | 0 | 1,600
HA OF PLANO | 1740 AVENUE G, PLANO, TX 75074 | 0 | 400
GEORGETOWN HA | P.O. BOX 60, GEORGETOWN, TX 78627 | 0 | 200
DENTON HA | 1225 WILSON STREET, DENTON, TX 76205 | 0 | 600
ARLINGTON HA | 501 W. SANFORD, SUITE 20, ARLINGTON, TX 76011 | 0 | 400
HARRIS COUNTY HA | 8410 LANTERN POINT, HOUSTON, TX 77054 | 0 | 4,000
BRAZORIA COUNTY HA | 1524 E MULBERRY, STE 162, ANGLETON, TX 77515 | 0 | 200
DALLAS COUNTY HSG ASSISTANCE | 2377 N. STEMMONS FRWY, STE 600—LB 12, DALLAS, TX 75207 | 0 | 600
Total for Special Fees for DVP to TBV Conversions |  | 0 | $79,200
Special Fees for PD Relocation
COUNTY OF BUTTE HA | 2039 FOREST AVENUE, SUITE 10, CHICO, CA 95928 | 0 | 1,400
NEW ORLEANS HA | 4100 TOURO STREET, NEW ORLEANS, LA 70122 | 0 | 18,800
NEW YORK CITY HA | 90 CHURCH STREET, 9TH FL, NEW YORK, NY 10007 | 0 | 12,000
Total for Special Fees for PD Relocation |  | 0 | $32,200
Special Fees for Prepayments
WATERBURY HA | 2 LAKEWOOD ROAD, WATERBURY, CT 06704 | 0 | 22,800
MIDDLETOWN HA | 40 BROAD STREET, MIDDLETOWN, CT 06457 | 0 | 20,200
CONN DEPT OF SOCIAL SERVICES | 25 SIGOURNEY STREET, 9TH FL, HARTFORD, CT 06105 | 0 | 19,200
CITY OF DES MOINES MUNICIPAL HSG | 100 EAST EUCLID, STE 101, DES MOINES, IA 50313 | 0 | 15,600
CITY OF DAVENPORT, IOWA | 501 WEST 3RD STREET, DAVENPORT, IA 52802 | 0 | 8,200
OLATHE HA | 300 W. CHESTNUT, OLATHE, KS 66061 | 0 | 19,000
KENTUCKY HSG CORPORATION | 1231 LOUISVILLE ROAD, FRANKFORT, KY 40601 | 0 | 8,600
EAST BATON ROUGE PHA | 4731 NORTH BLVD, BATON ROUGE, LA 70806 | 0 | 4,600
NEW BEDFORD HA | P.O. BOX A-2081, NEW BEDFORD, MA 02741 | 0 | 14,200
BROCKTON HA | 45 GODDARD ROAD, BROCKTON, MA 02303 | 0 | 23,600
FRAMINGHAM HA | 1 JOHN J. BRADY DRIVE, FRAMINGHAM, MA 01702 | 0 | 10,200
WEYMOUTH HA | 402 ESSEX STREET, WEYMOUTH, MA 02188 | 0 | 13,200
LEOMINSTER HA | 100 MAIN ST, LEOMINSTER, MA 01453 | 0 | 1,000
HA OF BALTIMORE CITY | 417 EAST FAYETTE STREET, BALTIMORE, MD 21201 | 0 | 19,600
MICHIGAN STATE HSG DEV AUTH | P.O. BOX 30044, LANSING, MI 48909 | 0 | 13,800
DAKOTA COUNTY CDA | 1228 TOWN CENTRE DRIVE, EAGAN, MN 55123 | 0 | 800
INDEPENDENCE HA | 210 SOUTH PLEASANT, INDEPENDENCE, MO 64050 | 0 | 4,600
ST. CLAIR COUNTY HA | P.O. BOX 125, APPLETON CITY, MO 64724 | 0 | 12,800
BUTTE HA | 220 CURTIS STREET, BUTTE, MT 59701 | 0 | 11,000
NEW HAMPSHIRE HSG FIN AUTH | P.O. BOX 5087, MANCHESTER, NH 03108 | 0 | 6,000
PLAINFIELD HA | 510 FRONT STREET, PLAINFIELD, NJ 07060 | 0 | 28,200
HA OF ROME | 205 ST PETER'S AVE, ROME, NY 13440 | 0 | 12,000
THE CITY OF NEW YORK DHPD | 100 GOLD STREET ROOM 501, NEW YORK, NY 10007 | 0 | 124,800
CITY OF PEEKSKILL | 840 MAIN STREET, PEEKSKILL, NY 10566 | 0 | 9,200
VILLAGE OF MANLIUS | 1654 W. ONONDAGA ST, SYRACUSE, | 0 | 16,600
NYS HSG TRUST FUND CORP | 38-40 STATE STREET, ALBANY, NY 12207 | 0 | 39,800
LORAIN MHA | 1600 KANSAS AVENUE, LORAIN, OH 44052 | 0 | 20,600
KLAMATH HA | PO BOX 5110, KLAMATH FALLS, OR 97601 | 0 | 3,400
HA OF THE CITY OF PITTSBURGH | 200 ROSS STREET, PITTSBURGH, PA 15219 | 0 | 3,400
LANCASTER HA | 325 CHURCH STREET, LANCASTER, PA 17602 | 0 | 22,600
PAWTUCKET HA | 214 ROOSEVELT AVE, PAWTUCKET, RI 02862 | 0 | 7,400
HA OF AIKEN | P.O. BOX 889, AIKEN, SC 29802 | 0 | 12,000
HA OF SOUTH CAROLINA REG NO 1 | 404 CHURCH ST, LAURENS, SC 29360 | 0 | 1,600
SIOUX FALLS HSG & REDEV | 630 SOUTH MINNESOTA, SIOUX FALLS, SD 57104 | 0 | 20,000
Total for Special Fees for Prepayments |  | 0 | $570,600
Special Fees for Rent Supplements
LOUISVILLE HA | 420 SOUTH EIGHTH STREET, LOUISVILLE, KY 40203 | 0 | 6,600
NEW BEDFORD HA | P.O. BOX A-2081, NEW BEDFORD, MA 02741 | 0 | 14,600
GREAT FALLS HA | 1500 CHOWEN SPRINGS LOOP, GREAT FALLS, MT 59405 | 0 | 1,600
CITY OF BUFFALO RENT ASST CORP | 470 FRANKLIN ST, BUFFALO, NY 14202 | 0 | 39,200
CITY OF MITCHELL HSG & | 200 E 15TH AVE, MITCHELL, SD 57301 | 0 | 800
SIOUX FALLS HSG & REDEV | 630 SOUTH MINNESOTA, SIOUX FALLS, SD 57104 | 0 | 2,600
Total for Special Fees for Rent Supplements |  | 0 | $65,400
Special Fees for Term/Opt-outs
MOBILE HSG BOARD | P.O. BOX 1345, MOBILE, AL 36633 | 0 | 4,200
HA OF HUNTSVILLE | P.O. BOX 486, HUNTSVILLE, AL 35804 | 0 | 8,600
HA OF JEFFERSON COUNTY | 3700 INDUSTRIAL PARKWAY, BIRMINGHAM, AL 35217 | 0 | 1,600
HA OF EUFAULA | P.O. BOX 36, EUFAULA, AL 36027 | 0 | 800
HA OF THE CITY OF | P.O. BOX 8872, PINE BLUFF, AR 71611 | 0 | 2,600
ASHLEY COUNTY HA | 202 S. MULBERRY STREET, HAMBURG, AR 71646 | 0 | 1,000
CITY OF LOS ANGELES HA | 2600 WILSHIRE BLVD, 3RD FL, LOS ANGELES, CA 90057 | 0 | 24,400
CITY OF FRESNO HA | 1331 FULTON MALL, FRESNO, CA 93776 | 0 | 11,200
COUNTY OF SACRAMENTO HSG | P.O. BOX 1834, SACRAMENTO, CA 95812 | 0 | 5,200
COUNTY OF RIVERSIDE HA | 5555 ARLINGTON AVE, RIVERSIDE, CA 92504 | 0 | 18,600
COUNTY OF MONTEREY HA | 123 RICO STREET, SALINAS, CA 93907 | 0 | 3,000
SAN DIEGO HSG COMMISSION | 1122 BROADWAY, SUITE 300, SAN DIEGO, CA 92101 | 0 | 6,800
STAMFORD HA | 22 CLINTON AVE, P.O. BOX 1376, STAMFORD, CT 06904 | 0 | 11,000
CITY OF HARTFORD | 550 MAIN STREET, HARTFORD, CT 06103 | 0 | 9,600
HA OF JACKSONVILLE | 1300 BROAD STREET, JACKSONVILLE, FL 32202 | 0 | 12,600
ST. PETERSBURG HA | P. O. BOX 12849, ST. PETERSBURG, FL 33733 | 0 | 23,800
HA OF DAYTONA BEACH | 211 N RIDGEWOOD AVE, STE 200, DAYTONA BEACH, FL 32114 | 0 | 11,600
HA OF SARASOTA | 1300 BOULEVARD OF THE ARTS, SARASOTA, FL 34236 | 0 | 1,800
NW FLORIDA REGIONAL HA | P. O. BOX 218, GRACEVILLE, FL 32440 | 0 | 10,400
HA OF POMPANO BEACH | 321 W. ATLANTIC BOULEVARD, POMPANO BEACH, FL 33061 | 0 | 4,800
HA OF OCALA | P.O. BOX 2468, OCALA, FL 34478 | 0 | 18,400
PINELLAS COUNTY HA | 11479 ULMERTON ROAD, LARGO, FL 33778 | 0 | 25,600
GAINESVILLE HA | P.O. BOX 1468, GAINESVILLE, FL 32602 | 0 | 30,400
HIALEAH HA | 75 EAST 6TH STREET, HIALEAH, FL 33010 | 0 | 19,600
HA OF BOCA RATON | 201 W. PALMETTO PARK ROAD, BOCA RATON, FL 33432 | 0 | 9,800
NORTH IOWA REG HA | 202 1ST STREET, SE, STE 203, MASON CITY, IA 50401 | 0 | 1,400
IDAHO HSG AND FIN ASSOC | 565 W MYRTLE STREET, BOISE, ID 83707 | 0 | 8,800
HA OF COOK COUNTY | 175 WEST JACKSON BLVD, STE 350, CHICAGO, IL 60604 | 0 | 1,800
DUPAGE COUNTY HA | 711 EAST ROOSEVELT ROAD, WHEATON, IL 60187 | 0 | 8,200
HA OF CITY OF JEFFERSONVILLE | 206 EASTERN BOULEVARD, JEFFERSONVILLE, IN 47130 | 0 | 5,600
INDIANA HSG & COMMUNITY | 30 S. MERIDIAN ST, STE 1000, INDIANAPOLIS, IN 46204 | 0 | 7,000
CITY OF RICHMOND SECTION 8 HSG | POST OFFICE BOX 250, RICHMOND, KY 40476 | 0 | 6,400
NEW ORLEANS HA | 4100 TOURO STREET, NEW ORLEANS, LA 70122 | 0 | 14,000
EAST BATON ROUGE PHA | 4731 NORTH BLVD, BATON ROUGE, LA 70806 | 0 | 6,400
MONROE HA | 300 HARRISON ST, MONROE, LA 71203 | 0 | 8,000
TANGIPAHOA PARISH POLICE JURY | P.O. BOX 215, AMITE, LA 70422 | 0 | 1,400
WORCESTER HA | 40 BELMONT STREET, WORCESTER, MA 01605 | 0 | 28,000
HA OF BALTIMORE CITY | 417 EAST FAYETTE STREET, BALTIMORE, MD 21201 | 0 | 64,200
MICHIGAN STATE HSG DEV AUTH | P.O. BOX 30044, LANSING, MI 48909 | 0 | 13,600
ST. LOUIS HA | 3520 PAGE BOULEVARD, ST. LOUIS, MO 63106 | 0 | 3,200
ST. FRANCOIS COUNTY PH AGENCY | P.O. BOX N, PARK HILLS, MO 63601 | 0 | 8,000
JASPER COUNTY PUBLIC HSG | P.O. BOX 207, JOPLIN, MO 64802 | 0 | 1,400
HA OF TENNESSEE VALLEY | P.O. BOX 1329, CORINTH, MS 38834 | 0 | 1,000
HA OF MISSISSIPPI REGIONAL NO 7 | P.O. BOX 430, MC COMB, MS 39648 | 0 | 3,600
HA OF SOUTH DELTA | P.O. BOX 959, LELAND, MS 38756 | 0 | 13,800
MT DEPARTMENT OF COMMERCE | 301 S. PARK, HELENA, MT 59620 | 0 | 4,000
HA SANFORD | 504 N FIRST STREET PO BOX 636, SANFORD, NC 27331 | 0 | 2,400
MIDDLETOWN HA | 2 OAKDALE DRIVE PLAZA, MIDDLETOWN, NJ 07748 | 0 | 11,400
SAN JUAN COUNTY HA | 7450 E. MAIN STREET, STE C, FARMINGTON, NM 87402 | 0 | 3,400
NEW YORK CITY HA | 90 CHURCH STREET, 9TH FL, NEW YORK, NY 10007 | 0 | 26,600
ALBANY HA | 200 SOUTH PEARL, ALBANY, NY 12202 | 0 | 200
HA OF TROY | 1 EDDYS LANE, TROY, NY 12180 | 0 | 24,200
HA OF GLENS FALLS | JAY STREET, GLENS FALLS, NY 12801 | 0 | 2,400
LAKE MHA | 189 FIRST STREET, PAINESVILLE, OH 44077 | 0 | 6,400
HANCOCK MHA | 1800 N. BLANCHARD STREET, STE 111, | 0 | 2,400
HA & COMM SERVICES AGENCY OF | 177 DAY ISLAND RD, EUGENE, OR 97401 | 0 | 4,000
HA OF JACKSON COUNTY | 2231 TABLE ROCK ROAD, MEDFORD, OR 97501 | 0 | 2,400
PHILADELPHIA HA | 12 SOUTH 23RD STREET, PHILADELPHIA, PA 19103 | 0 | 23,200
SCRANTON HA | 400 ADAMS AVENUE, SCRANTON, PA 18510 | 0 | 6,800
ALLEGHENY COUNTY HSG | 625 STANWIX ST, 12TH FLOOR, PITTSBURGH, PA 15222 | 0 | 2,200
HA OF COLUMBIA | 1917 HARDEN STREET, COLUMBIA, SC 29204 | 0 | 5,600
CITY OF SPARTANBURG HA | P.O. BOX 2828, SPARTANBURG, SC 29304 | 0 | 14,000
SIOUX FALLS HSG & REDEVELOPMENT | 630 SOUTH MINNESOTA, SIOUX FALLS, SD 57104 | 0 | 200
KNOXVILLE COMMUNITY DEVEL CORP | P.O. BOX 3550, KNOXVILLE, TN 37927 | 0 | 9,400
METRO DEVELOPMNT & HSG | 701 SOUTH SIXTH STREET, NASHVILLE, TN 37202 | 0 | 4,600
HA OF MARYVILLE | 100 BROADWAY TOWERS, MARYVILLE, TN 37801 | 0 | 5,600
HOUSTON HA | 2640 FOUNTAIN VIEW, HOUSTON, TX 77057 | 0 | 14,200
SAN ANTONIO HA | 818 S. FLORES STREET, SAN ANTONIO, TX 78295 | 0 | 8,200
HA OF PARIS | 100 GEORGE W. WRIGHT HOMES, PARIS, TX 75461 | 0 | 3,200
HA OF PLANO | 1740 AVENUE G, PLANO, TX 75074 | 0 | 1,800
HA OF ABILENE | 555 WALNUT, ABILENE, TX 79604 | 0 | 19,000
HA CITY OF BRENHAM | 1901 NORTHVIEW CIRCLE DRIVE, BRENHAM, TX 77833 | 0 | 3,400
DENTON HA | 1225 WILSON STREET, DENTON, TX 76205 | 0 | 25,600
GRAND PRAIRIE HSNG & COMM DEV | 201 NW 2ND ST, SUITE 150, GRAND PRAIRIE, TX 75050 | 0 | 5,600
LONGVIEW HSG & COMM. DEV | P.O. BOX 1952, LONGVIEW, TX 75606 | 0 | 9,600
CENTRAL TEXAS COUNCIL OF GOVTS | 2180 N. MAIN, BELTON, TX 76513-0729 | 0 | 8,200
BRAZORIA COUNTY HA | 1524 E MULBERRY, STE 162, ANGLETON, TX 77515 | 0 | 4,200
DEEP EAST TX COUNCIL OF GOVTS | 210 PREMIER DRIVE, JASPER, TX 75951 | 0 | 2,400
DALLAS COUNTY HSG ASSISTANCE | 2377 N. STEMMONS FRWY, STE 600—LB 12, DALLAS, TX 75207 | 0 | 12,200
DANVILLE REDEVELOPMENT & HA | 651 CARDINAL PLACE, DANVILLE, VA 24541 | 0 | 1,800
LYNCHBURG REDEVELOPMENT & HA | 918 COMMERCE STREET, LYNCHBURG, VA 24505 | 0 | 13,400
FAIRFAX CO REDEVELOPMENT & HA | 3700 PENDER DRIVE, SUITE 300, FAIRFAX, VA 22030 | 0 | 16,000
VERMONT STATE HA | ONE PROSPECT STREET, MONTPELIER, VT 05602 | 0 | 5,000
SEATTLE HA | 120 SIXTH AVENUE NORTH, SEATTLE, WA 98109 | 0 | 10,600
KING COUNTY HA | 600 ANDOVER PARK WEST, SEATTLE, WA 98188 | 0 | 26,600
HA OF CITY OF EVERETT | 3107 COLBY AVE, EVERETT, WA 98206 | 0 | 20,000
HA OF GRAYS HARBOR | 602 EAST FIRST STREET, ABERDEEN, WA 98520 | 0 | 6,800
PORTAGE COUNTY HA | 1100 CENTERPOINT DR, STE 201-B, STEVENS POINT, WI 54481 | 0 | 16,000
WISCONSIN HSG & ECONOMIC DEVELOPMENT AUTH | MADISON, WI 53701 | 0 | 2,400
HA OF THE CITY OF CHEYENNE | 3304 SHERIDAN AVENUE, CHEYENNE, WY 82009 | 0 | 2,800
Total for Special Fees for Term/Opt-outs |  | 0 | $883,600
Terminations/Opt-outs
MOBILE HSG BOARD | P.O. BOX 1345, MOBILE, AL 36633 | 42 | 218,650
HA OF HUNTSVILLE | P.O. BOX 486, HUNTSVILLE, AL 35804 | 43 | 205,397
HA OF JEFFERSON COUNTY | 3700 INDUSTRIAL PARKWAY, BIRMINGHAM, AL 35217 | 8 | 48,804
HA OF EUFAULA | P.O. BOX 36, EUFAULA, AL 36027 | 4 | 13,771
HA OF THE CITY OF PINE BLUFF | P.O. BOX 8872, PINE BLUFF, AR 71611 | 13 | 54,431
ASHLEY COUNTY HA | 202 S. MULBERRY STREET, HAMBURG, AR 71646 | 5 | 15,807
CITY OF LOS ANGELES HA | 2600 WILSHIRE BLVD, 3RD FL, LOS ANGELES, CA 90057 | 122 | 1,148,354
CITY OF FRESNO HA | 1331 FULTON MALL, FRESNO, CA 93776 | 56 | 341,799
COUNTY OF SACRAMENTO HSG | P.O. BOX 1834, SACRAMENTO, CA 95812 | 26 | 219,604
COUNTY OF RIVERSIDE HA | 5555 ARLINGTON AVE, RIVERSIDE, CA 92504 | 93 | 720,969
COUNTY OF MONTEREY HA | 123 RICO STREET, SALINAS, CA 93907 | 15 | 119,315
SAN DIEGO HSG COMMISSION | 1122 BROADWAY, SUITE 300, SAN DIEGO, CA 92101 | 34 | 338,881
STAMFORD HA | 22 CLINTON AVE, STAMFORD, CT 06904 | 56 | 836,154
CITY OF HARTFORD | 550 MAIN STREET, HARTFORD, CT 06103 | 48 | 381,456
HA OF JACKSONVILLE | 1300 BROAD STREET, JACKSONVILLE, FL 32202 | 65 | 446,277
ST. PETERSBURG HA | P. O. BOX 12849, ST. PETERSBURG, FL 33733 | 146 | 1,221,144
HA OF DAYTONA BEACH | 211 N. RIDGEWOOD AVE, STE 200, DAYTONA BEACH, FL 32114 | 60 | 391,867
HA OF SARASOTA | 1300 BOULEVARD OF THE ARTS, SARASOTA, FL 34236 | 21 | 186,508
NW FLORIDA REGIONAL HA | P. O. BOX 218, GRACEVILLE, FL 32440 | 52 | 278,098
HA OF POMPANO BEACH | 321 WEST ATLANTIC BLVD, POMPANO BEACH, FL 33061 | 24 | 248,435
HA OF OCALA | P.O. BOX 2468, OCALA, FL 34478 | 92 | 523,307
PINELLAS COUNTY HA | 11479 ULMERTON ROAD, LARGO, FL 33778 | 128 | 915,348
GAINESVILLE HA | P.O. BOX 1468, GAINESVILLE, FL 32602 | 152 | 1,006,629
HIALEAH HA | 75 EAST 6TH STREET, HIALEAH, FL 33010 | 98 | 781,817
HA OF BOCA RATON | 201 WEST PALMETTO PARK ROAD, BOCA RATON, FL 33432 | 49 | 428,970
NORTH IOWA REGIONAL HA | 202 1ST STREET, SE, STE 203, MASON CITY, IA 50401 | 7 | 19,235
IDAHO HSG AND FINANCE ASSOC | 565 W MYRTLE STREET, BOISE, ID 83707 | 5 | 20,873
DUPAGE COUNTY HA | 711 EAST ROOSEVELT ROAD, WHEATON, IL 60187 | 42 | 405,433
HA. CITY OF JEFFERSONVILLE | 206 EASTERN BOULEVARD, JEFFERSONVILLE, IN 47130 | 28 | 115,839
INDIANA HSG & COMM DEV AUTH | 30 S. MERIDIAN ST, STE 1000, INDIANAPOLIS, IN 46204 | 35 | 183,977
CITY OF RICHMOND SECTION 8 HSG | POST OFFICE BOX 250, RICHMOND, KY 40476 | 32 | 130,648
NEW ORLEANS HA | 4100 TOURO STREET, NEW ORLEANS, LA 70122 | 70 | 739,586
EAST BATON ROUGE PHA | 4731 NORTH BLVD, BATON ROUGE, LA 70806 | 32 | 224,790
MONROE HA | 300 HARRISON ST, MONROE, LA 71203 | 53 | 222,740
TANGIPAHOA PARISH POLICE JURY | P.O. BOX 215, AMITE, LA 70422 | 50 | 229,938
WORCESTER HA | 40 BELMONT STREET, WORCESTER, MA 01605 | 140 | 994,745
HA OF BALTIMORE CITY | 417 EAST FAYETTE STREET, BALTIMORE, MD 21201 | 321 | 2,670,720
MICHIGAN STATE HSG DEV AUTH | P.O. BOX 30044, LANSING, MI 48909 | 68 | 389,117
ST. LOUIS HA | 3520 PAGE BOULEVARD, ST. LOUIS, MO 63106 | 16 | 104,127
ST. FRANCOIS COUNTY PHA | P.O. BOX N, PARK HILLS, MO 63601 | 40 | 251,587
JASPER COUNTY PHA | P.O. BOX 207, JOPLIN, MO 64802 | 12 | 42,224
HA TENNESSEE VALLEY | P.O. BOX 1329, CORINTH, MS 38834 | 5 | 17,480
HA OF MISSISSIPPI REGIONAL NO 7 | P.O. BOX 430, MC COMB, MS 39648 | 18 | 54,791
HA OF SOUTH DELTA | P.O. BOX 959, LELAND, MS 38756 | 69 | 329,743
MT DEPARTMENT OF COMMERCE | 301 S. PARK, HELENA, MT 59620 | 22 | 148,174
HA OF SANFORD | 504 N FIRST STREET PO BOX 636, SANFORD, NC 27331 | 23 | 103,141
UNION CITY HA | 3911 KENNEDY BOULEVARD, UNION CITY, NJ 07087 | 0 | 111,742
MIDDLETOWN HA | 2 OAKDALE DRIVE PLAZA, MIDDLETOWN, NJ 07748 | 57 | 559,847
SAN JUAN COUNTY HA | 7450 E. MAIN STREET, STE C, FARMINGTON, NM 87402 | 28 | 115,984
NEW YORK CITY HA | 90 CHURCH STREET, 9TH FL, NEW YORK, NY 10007 | 133 | 1,272,411
ALBANY HA | 200 SOUTH PEARL, ALBANY, NY 12202 | 1 | 5,428
HA OF TROY | 1 EDDYS LANE, TROY, NY 12180 | 121 | 573,424
HA OF GLENS FALLS | JAY STREET, GLENS FALLS, NY 12801 | 12 | 52,901
LAKE MHA | 189 FIRST STREET, PAINESVILLE, OH 44077 | 32 | 208,973
HANCOCK MHA | 1800 N. BLANCHARD STREET, STE 114, | 12 | 45,480
HA & COMM SERV AGENCY OF LANE CO | 177 DAY ISLAND RD, EUGENE, OR 97401 | 20 | 106,481
HA OF JACKSON COUNTY | 2231 TABLE ROCK ROAD, MEDFORD, OR 97501 | 12 | 59,592
PHILADELPHIA HA | 12 SOUTH 23RD STREET, PHILADELPHIA, PA 19103 | 116 | 750,575
SCRANTON HA | 400 ADAMS AVENUE, SCRANTON, PA 18510 | 34 | 151,661
ALLEGHENY COUNTY HA | 625 STANWIX ST, 12TH FL, PITTSBURGH, PA 15222 | 11 | 60,341
HA OF COLUMBIA | 1917 HARDEN STREET, COLUMBIA, SC 29204 | 28 | 153,246
CITY OF SPARTANBURG HA | P.O. BOX 2828, SPARTANBURG, SC 29304 | 80 | 393,034
SIOUX FALLS HSG & REDEV AUTH | 630 SOUTH MINNESOTA, SIOUX FALLS, SD 57104 | 1 | 5,016
KNOXVILLE COMMUNITY DEVEL CORP | P.O. BOX 3550, KNOXVILLE, TN 37927 | 47 | 249,722
METRO DEVELOPMENT & HSG | 701 SOUTH SIXTH STREET, NASHVILLE, TN 37202 | 23 | 128,908
HA OF MARYVILLE | 100 BROADWAY TOWERS, MARYVILLE, TN 37801 | 52 | 237,045
HOUSTON HA | 2640 FOUNTAIN VIEW, HOUSTON, TX 77057 | 73 | 536,749
SAN ANTONIO HA | 818 S. FLORES STREET, SAN ANTONIO, TX 78295 | 50 | 343,452
HA OF PARIS | 100 GEO. W. WRIGHT HOMES, PARIS, TX 75461 | 16 | 71,197
HA OF PLANO | 1740 AVENUE G, PLANO, TX 75074 | 9 | 62,911
HA OF ABILENE | 555 WALNUT, ABILENE, TX 79604 | 95 | 411,904
HA OF CITY OF BRENHAM | 1901 NORTHVIEW CIRCLE DRIVE, BRENHAM, TX 77833 | 19 | 103,074
DENTON HA | 1225 WILSON STREET, DENTON, TX 76205 | 132 | 957,305
GRAND PRAIRIE HSNG & COMM DEV | 201 NW. 2ND ST, SUITE 150, GRAND PRAIRIE, TX 75050 | 28 | 216,067
LONGVIEW HSG & COMM. DEV | P.O. BOX 1952, LONGVIEW, TX 75606 | 48 | 235,636
CENTRAL TEXAS COUNCIL OF GOVTS | 2180 N. MAIN, BELTON, TX 76513 | 41 | 195,604
BRAZORIA COUNTY HA | 1524 E MULBERRY STE 162, ANGLETON, TX 77515 | 25 | 145,482
DEEP EAST TX COUNCIL OF GOVTS | 210 PREMIER DRIVE, JASPER, TX 75951 | 13 | 66,784
DALLAS COUNTY HSG ASSISTANCE | 2377 N. STEMMONS FRWY, STE 600—LB 12, DALLAS, TX 75207 | 61 | 399,174
DANVILLE REDEVELOPMENT & HA | 651 CARDINAL PLACE, DANVILLE, VA 24541 | 9 | 43,689
LYNCHBURG REDEVELOPMENT & HA | 918 COMMERCE STREET, LYNCHBURG, VA 24505 | 69 | 257,475
FAIRFAX CO REDEVLOPMENT & HA | 3700 PENDER DRIVE, SUITE 300, FAIRFAX, VA 22030 | 80 | 995,386
VERMONT STATE HA | ONE PROSPECT STREET, MONTPELIER, VT 05602 | 25 | 142,254
SEATTLE HA | 120 SIXTH AVENUE NORTH, SEATTLE, WA 98109 | 60 | 657,367
KING COUNTY HA | 600 ANDOVER PARK WEST, SEATTLE, WA 98188 | 135 | 1,566,821
HA OF CITY OF EVERETT | 3107 COLBY AVE, EVERETT, WA 98206 | 101 | 833,105
HA OF GRAYS HARBOR | 602 EAST FIRST STREET, ABERDEEN, WA 98520 | 34 | 154,098
PORTAGE COUNTY HA | 1100 CENTERPOINT DR, STE 201-B, STEVENS POINT, WI 54481 | 80 | 258,566
WISCONSIN HSG & ECON DEV | P.O. BOX 1728, MADISON, WI 53701 | 12 | 49,116
HA OF THE CITY OF | 3304 SHERIDAN AVENUE, CHEYENNE, WY 82009 | 16 | 79,450
Total for Terminations/Opt-outs |  | 4,591 | $32,515,177
Total for Housing Tenant Protection |  | 8,478 | $70,544,835
HOPE VI Vouchers
FAYETTEVILLE METRO HA | PO DRAWER 2349, FAYETTEVILLE, NC 28302 | 224 | 1,265,429
KING COUNTY HA | 600 ANDOVER PARK WEST, SEATTLE, WA 98188 | 84 | 906,162
Total for TP HOPE VI Vouchers |  | 308 | $2,171,591
Grand Total |  | 21,098 | $167,165,850

[FR Doc. 2010-2568 Filed 2-4-10; 8:45 am]

BILLING CODE 4210-67-P